DEPARTMENT OF TRANSPORTATION

Federal Aviation Administration

Land Release for Penn Yan Airport

AGENCY: Federal Aviation Administration, DOT.

ACTION: Notice, request for public comment.

SUMMARY: The Federal Aviation Administration is requesting public comment on the Penn Yan Airport (PEO), Penn Yan, New York, Notice of Proposed Release from Aeronautical Use of approximately 10.00 +/− acres of airport property, to allow for non-aeronautical development.

The parcel is located on the northwest corner of the Penn Yan Airport. The tract currently consists of 10.00 +/− acres of land and it is currently vacant. The requested release is for the purpose of permitting the airport owner to sell and convey title of 10.00 +/− acres for construction of a boat storage and maintenance facility by Land and Sea Properties.

Documents reflecting the Sponsor's request are available, by appointment only, for inspection at the Office of the Yates County Legislature and the FAA New York Airport District Office.

DATES: Comments must be received by April 2, 2012.

ADDRESSES: Comments on this application may be mailed or delivered to the FAA at the following address: Otto N. Suriani, Acting Manager, FAA New York Airports District Office, 600 Old Country Road, Suite 446, Garden City, New York 11530. In addition, a copy of any comments submitted to the FAA must be mailed or delivered to Mr. H. Taylor Fitch, Chairman, Yates County Legislature, at the following address: 417 Liberty Street Penn Yan, NY 14527.

FOR FURTHER INFORMATION CONTACT: Otto N. Suriani, Acting Manager, New York Airports District Office, 600 Old Country Road, Suite 446, Garden City, New York 11530; telephone (516) 227-3809; FAX (516) 227-3813; email Otto.Suriani@faa.gov.

SUPPLEMENTARY INFORMATION: Section 125 of the Wendell H. Ford Aviation Investment and Reform Act for the 1st Century (AIR21) requires the FAA to provide an opportunity for public notice and comment before the Secretary may waive a Sponsor's Federal obligation to use certain airport land for aeronautical use.

Issued in Garden City, New York, on January 13, 2012.
Otto N. Suriani,
Acting Manager, New York, Airports District Office, Eastern Region.

[FR Doc. 2012-5166 Filed 3-1-12; 8:45 am]

BILLING CODE 4910-13-P